DEPARTMENT OF TRANSPORTATION

Federal Aviation Administration

RTCA Special Committee 172; Future Air-Ground Communications in the VHF Aeronautical Data Band (118-137 MHz)

Pursuant to section 10(a)(2) of the Federal Advisory Committee Act (Pub. L. 92-463, 5 U.S.C., Appendix 2), notice is hereby given for Special Committee 172 meeting to be held May 22-24, 2001, starting at 9 a.m. The meeting will be held at RTCA, 1140 Connecticut Avenue, NW., Suite 1020, Washington, DC 20036.

The agenda will include: May 22: Plenary Session Convenes; (1) Introductory Remarks; (2) Review Meeting Agenda; (3) Review Previous Meeting Minutes; (4) Disposition the Final Review and Comment (FRAC) Form comments for DO-224A, Change 1 (VHF Data Link MASPS); (5) Disposition the FRAC Form comments for VHF Data Link MOPS Mode 3. May 23 and 24: (6) Disposition of the FRAC Form comments continues; (7) Review ICAO Aeronautical Mobile Communications Panel (AMCP) and EUROCAE WG-47 Activities; (a) Aeronautical Operational Control Over Aircraft Communications Addressing and Reporting Systems (AOA) in MOPS; (b) Ground Reference Station requirements; (c) ARINC 631 Specification vs. SARPs vs. MOPS/MASPS maintenance issues; (8) Report on Next Generation Communications (NEXCOM) Advisory Rulemaking Committee (NARC) and other FAA digital activities; (9) Report on Airline Electronic Engineering Committee Systems Architecture Interfaces Sub-committee (AEEC SAI) work on NEXCOM; (10) Other Business; (11) Date and Location of Next Meeting; (13) Closing.

Attendance is open to the interested public but limited to space availability. With the approval of the chairman, members of the public may present oral statements at the meeting. Persons wishing to present statements or obtain information should contact the RTCA Secretariat, 1140 Connecticut Avenue, NW., Suite 1020, Washington, DC 20036; (202) 833-9339 (phone); (202) 833-9434 (fax); or http://www.rtca.org (web site). Members of the public may present a written statement to the committee at any time.

Issued in Washington, DC, on May 2, 2001.
Janice L. Peters,
Designated Official.

[FR Doc. 01-11720 Filed 5-8-01; 8:45 am]

BILLING CODE 4910-13-M